DEPARTMENT OF AGRICULTURE

Forest Service

Gold/Boulder/Sullivan; Kootenai National Forest, Lincoln County, Montana

AGENCY: Forest Service, USDA.

ACTION: Notice of intent to prepare an environmental impact statement.

SUMMARY: The USDA-Forest Service will prepare an Environmental Impact Statement (EIS) for the Gold/Boulder/Sullivan Project to disclose the effects of vegetative management through timber harvest and prescribed fire, and road management including road maintenance, reconstruction, and decommissioning. The Gold/Boulder/Sullivan project area encompasses the Gold Creek, Boulder Creek, and Sullivan Creek drainages approximately 12 miles southwest of Eureka, Montana.

The proposed activities are considered together because they represent either connected or cumulative actions as defined by the Council on Environmental Quality (40 CFR 1508.23). The purpose and need for action is to achieve desirable and sustainable conditions in forest stands, improve big game winter range conditions, improve visual quality, improve water quality, and provide goods and services.

The EIS will tier to the Kootenai National Forest Land Resource Management Plan, as amended, and the Final Environmental Impact Statement (FEIS), and Record of Decision (ROD) of September 1987, which provides overall guidance for forest management of the area.

DATES: Written comments and suggestions should be received on or before April 24, 2000.

ADDRESSES: The Responsible Official is Bob Castaneda, the Kootenai National Forest Supervisor, 1101 Hwy 2 West, Libby, Montana 59923. Written comments and suggestions concerning the scope of the analysis should be sent to Glen M. McNitt, District Ranger, Rexford Ranger District, 1299 Hwy 93 N, Eureka, MT 59917.

FOR FURTHER INFORMATION CONTACT: Contact Ron Komac, Acting NEPA Coordinator, Rexford Ranger District, Phone: (406) 296-2536.

SUPPLEMENTARY INFORMATION: The project area is approximately 37,000 acres and has a favorable climate and good site conditions for forest vegetation. Proposed activities within the decision area include portions of the following areas: T34-36N; R28-30W.

Average annual precipitation ranges from 14 to 1000 inches. At higher elevations, most precipitation falls as snow. The decision area contains a combination of open-grown ponderosa pine and Douglas-fir in the lower elevations, adjacent to Lake Koocanusa; upland areas contain multistoried western larch/Douglas-fir intermixed with lodgepole pine, as well as uniform lodgepole pine stands.

Wildfire historically played a role in interrupting forest succession and creating much of the vegetative diversity that is apparent on the landscape today. Since the early 1900's, a policy of wildfire suppression has been in place on National Forest lands, interrupting the natural vegetation cycle. Existing stands in the lower elevations have a higher stocking level than occurred naturally and are dominated by Douglas-fir which is susceptible to bark beetles and root disease when stressed. Lodgepole pine in the upper elevations have experienced a high level of mortality due to mountain pine beetles and are not contributing toward a desired condition of forest health. A portion of the Decision Area is highly visible from the Tobacco Valley as well as the Scenic Byway (State Highway 37). A portion of the Mount Henry Inventoried Roadless Area is included within the project area. There are no treatments proposed for this area.

The Kootenai National Forest Land and Resource Management Plan provides overall management objectives in individual delineated management areas (MAs). Most of the proposed timber harvest activities encompass five predominant MAs: 11, 12, 15, 16, 17. Briefly described, MA 11 is managed to maintain or enhance the winter range habitat effectiveness for big game species and produce a programmed yield of timber. MA 12 is managed to maintain or enhance the summer range habitat effectiveness for big game specifies and produce a programmed yield of timer. MA 15 focuses upon timber production using various silvicultural practices while providing for other resource values. MA 16 is managed to produce timber while providing for a pleasing view. MA 17 is managed to maintain or enhance a natural appearing landscape and produce a programmed yield of timber. Minor amounts of timber harvest and/or other proposed activities such as prescribed burning are found in other MAs, including 2 (roadless recreation); 5 (viewing areas); 10 (big game winter range); 13 (old growth), 19 (steep slopes), 21 (research natural area), and 24 (low productivity areas).

Purpose and Need

The primary purpose and need for the project is to: (1) Achieve desirable and sustainable conditions in forest stands by reducing stand densities and species competition, and salvage of mortality due to insects or disease; (2) improve big game winter range conditions through the use of prescribed fire to rejuvenate browse species; (3) improve water quality by reducing road effects through road maintenance and reconstruction, and road decommissioning; (4) improve visual quality through feathering edges to reduce line and form; and (5) respond to the social and economic desires of the surrounding area by providing a range of products from the forested environment, while maintaining a resilient, sustainable forest environment over time.

Proposed Activities

The Forest Service proposes to harvest between 18100 and 35600 CCF (hundred cubic feet), equivalent to between 9.1 and 17.8 MMBF (million board feet) of timber through the application of a variety of harvest methods on approximately 2528 acres of forestland. Silvicultural systems include 826 acres of regeneration harvest, 1423 acres of improvement harvest, 118 acres of salvage, and 161 acres of removal of small diameter material. Some treatments would feather or thin stands adjacent to existing units with abrupt edges to improve the visual setting for outdoor recreation.

Removal of trees would be accomplished by a variety of methods including: helicopter, tractor, and line skidding operations. Temporary roads may be needed to access some units to be harvested with ground-based systems. These temporary roads would be decommissioned after timber sale activities are accomplished.

The proposal also includes approximately 2,528 acres of prescribed in association with commercial timber harvest and approximately 3,316 acres of prescribed burning without commercial timber harvest. Prescribed burning without timber harvest is proposed within management area 13 (designated old growth).

The proposed action would result in four additional openings over 40 acres, ranging from 49 to 83 acres. The size of seven other large openings would be increased, ranging from 55 to 464 acres.

The proposal also includes .1 mile of temporary road construction, 64 miles of reconstruction to meet Best Management Practices requirements and decommissioning of four closed roads to restore natural drainage patterns.

Implementation of this proposal would require opening several miles of road currently restricted to public access. It is expected that public access would be allowed on a portion of these roads while management activities are occurring. Restrictions for motorized access would be restored following the conclusion of the management activities.

The proposed action includes precommercial thinning of sapling-sized trees on 2600 acres within managed plantations and natural stands that have regenerated after wildfire. Precommercial thinning would not occur in lynx habitat.

Forest Plan Amendments

The proposed action includes a project-specific forest plan amendments and a programmatic amendment to meet the goals of the Kootenai National Forest Plan.

A programmatic amendment to allow long-term MA 12 open road density to be managed at 1.1 miles/square mile, which exceeds the facilities standard of 0.75 miles/square mile. The roads currently open access high-use recreation facilities or are important access routes for forest users and have been managed as open roads for several decades. There is a social need to maintain these roads as open to motorized access.

A project specific amendment to allow harvest adjacent to existing openings in up to 11 big game movement corridors. A Forest Plan amendment would be needed to suspend wildlife and fish standard #7 and timber standard #2 for this area. These standards state that movement corridors and adjacent hiding cover be retained. In this situation, high levels of mountain pine beetle activity have precluded alternative treatments. These opening sizes more closely correlate to natural disturbance patterns. Snags and down woody material would be left to provide wildlife habitat and maintain soil productivity.

MA-21; Research Natural Area Candidates

The proposed activities in the Big Creek Research Natural Area would involve fuel treatment activities prior to conducting an underburn in this low elevation area. The Kootenai Forest Plan scheduled two underburns for this area. Some smaller diameter understory trees would be removed in order for this burning to be successful. Any management proposals would be conducted with the full involvement of Forest Service Research.

Range of Alternatives

The Forest Service will consider a range of alternatives. One of these will be the “no action” alternative in which none of the proposed activities will be implemented. Additional alternatives may be considered to achieve the projects purpose and need and to respond to specific resource issues and public concerns.

Preliminary Issues

Tentatively, several preliminary issues of concern have been identified. These issues are briefly described below:

Transportation Systems: The implementation of the proposed action would permanently remove approximately 3 miles of road from the landscape which may affect the public's ability to use traditional routes.

Visual Resources: Implementation of the proposed action may alter the existing scenic resource within the project area. Although the proposed action is designed to improve the visuals of past harvest activities, some members of the public may feel that it will have additional scenic impacts.

Wildlife: The proposed action could potentially reduce existing cavity habitat in snags and reduce suitable hiding cover for wildlife security.

Management activities inside of a Research Natural Area: Typically, commercial thinning is not permitted within RNA's. In this particular case, a commercial thinning is necessary in order to remove fuels prior to underburning. If these fuels are not removed, there is a high likelihood that a stand destroying fire could occur rather than a cool underburn which is characteristic for this site.

Decisions To Be Made

The Kootenai Forest Supervisor will decide the following:

• Whether or not to harvest timber and, if so, identify the selection of, and site specific location of, appropriate timber management practices (silvicultural prescription, logging system, fuels treatment, and reforestation), road construction/reconstruction necessary to provide access and achieve other resource objectives, and appropriate mitigation measures.

• Whether or not water quality improvement projects (including road decommissioning) should be implemented and, if so, to what extent.

• Whether or not wildlife enhancement projects (including prescribed burning) should be implemented and, if so, to what extent.

• Whether road access restrictions or other actions are necessary to meet big game wildlife security needs.

• Whether or not project specific and programmatic Forest Plan amendments for MA 12 and MA 21 are necessary to meet the specific purpose and need of this project, and whether those amendments are significant under NFMA.

• What, if any, specific project monitoring requirements would be needed to assure mitigation measures are implemented and effective.

Public Involvement and Scoping

In January 2000 preliminary efforts were made to involve the public in looking at management opportunities within the Gold/Boulder/Sullivan Planning Area. Comments received prior to this notice will be included in the documentation for the EIS. The public is encouraged to take part in the process and is encouraged to visit with Forest Service officials at any time during the analysis and prior to the decision. The Forest Service will seeking information, comments, and assistance from Federal, State, and local agencies and other individuals or organizations who may be interested in, or affected by, the proposed action. This input will be used in preparation of the draft and final EIS. The scoping process will assist in identifying potential issues, identifying major issues to be analyzed in depth, identifying alternatives to the proposed action, identifying potential environmental effects of this project and alternatives (i.e., direct, indirect, and cumulative effects and connected actions).

Estimated Dates for Filing

While public participation in this analysis is welcome at any time, comments received within 30 days of the publication of this notice will be especially useful in the preparation of the Draft EIS. The Draft EIS is expected to be filed with the Environmental Protection Agency (EPA) and to be available for public review by June, 2000. At that time EPA will publish a Notice of Availability of the Draft EIS in the Federal Register. The Comment period on the draft EIS will be 45 days from the date the EPA publishes the Notice of Availability in the Federal Register. It is very important that those interested in the management of this area participate at that time.

The final EIS is scheduled to be completed by September, 2000. In the final EIS the Forest Service is required to respond to comments and responses received during the comment period that pertain to the environmental consequences discussed in the draft EIS and applicable laws, regulations, and policies considered in making a decision regarding the proposal.

Reviewer's Obligations

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objectives that could be raised at the draft environmental impact statement stage may be waived or dismissed by the courts. City of Angoon v. Hotel, 803, F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objectives are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official

As the Forest Supervisor of the Kootenai National Forest, 1101 US Highway 2 West, Libby, MT 59923, I am the Responsible Official, As the Responsible Official I will decide if the proposed project will be implemented. I will document the decision and reasons for the decision in the Record of Decision. I have delegated the responsibility to prepare the EIS to Glen M. McNitt, District Ranger, Rexford Ranger District.

Dated: March 15, 2000.
Bob Castaneda,
Forest Supervisor, Kootenai National Forest.

[FR Doc. 00-7282 Filed 3-23-00; 8:45 am]

BILLING CODE 3410-11-M